DEPARTMENT OF LABOR

Employment and Training Administration

[TA-W-61,433]

Nacom Corporation Now Known as Elcom, Inc., D/B/A Nacom, Including On-Site Leased Workers From Kelly Services and Simos, Griffin, GA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on June 11, 2007, applicable to workers of NACOM Corporation, including on-site leased workers from Kelly Services and SIMOS, Griffin, Georgia. The notice was published in the Federal Register on June 28, 2007 (72 FR 35516).

At the request of a company official, the Department reviewed the certification for workers of the subject firm. The workers are engaged in the production of automotive electrical junction blocks and switches.

New information shows that as of April 1, 2008, NACOM Corporation merged with Elcom, Inc. and is now known as Elcom, Inc., d/b/a NACOM.

Workers separated from employment at the subject firm had their wages reported under a separate unemployment insurance (UI) tax account for Elcom, Inc., d/b/a NACOM.

Accordingly, the Department is amending this certification to properly reflect this matter.

The intent of the Department's certification is to include all workers of NACOM Corporation, now known as Elcom, Inc., d/b/a NACOM, who were adversely affected by a shift in production of automotive electrical junction blocks and switches to Mexico.

The amended notice applicable to TA-W-61,433 is hereby issued as follows:

All workers of NACOM Corporation, now known as Elcom, Inc., d/b/a NACOM, including on-site leased workers from Kelly Services and SIMOS, Griffin, Georgia, who became totally or partially separated from employment on or after April 11, 2006, through June 11, 2009, are eligible to apply for adjustment assistance under Section 223 of the Trade Act of 1974, and are also eligible to apply for alternative trade adjustment assistance under Section 246 of the Trade Act of 1974.

Signed at Washington, DC, this 1st day of April 2008.
Richard Church,
Certifying Officer, Division of Trade Adjustment Assistance.

[FR Doc. E8-7734 Filed 4-10-08; 8:45 am]

BILLING CODE 4510-FN-P